DEPARTMENT OF DEFENSE

Department of the Army

Scientific Advisory Board Meeting

AGENCY: Department of the Army, DoD.

ACTION: Notice of open meeting.

SUMMARY: In accordance with 10(a)(2) of the Federal Advisory committee Act, Public Law (92-463) announcement is made of the following open meeting:

Name of Committee: Scientific Advisory Board (SAB).

Dates of Meeting: May 23-24, 2002.

Place: The Armed Forces Institute of Pathology (AFP), Building 54, 14th St. & Alaska Ave., NW., Washington, DC 20306-6000.

Time: 8 a.m.-5 p.m. (May 23, 2002). 8:30 a.m.-12 p.m. (May 24, 2002).

FOR FURTHER INFORMATION CONTACT: Mr. Ridgely Rabold, Center for Advanced Pathology (CAP), AFIP, Building 54, Washington, DC 20306-6000, phone (202) 782-2553.

SUPPLEMENTARY INFORMATION: (1) General function of the board: The Scientific Advisory Board provides scientific and professional advice and guidance on programs, polices and procedures of the AFIP.

(2) Agenda: The Board will hear status reports from the AFIP Director, the Director of the Center for Advanced Pathology, the Director of the National Museum of the Health and Medicine, and each of the pathology sub-speciality departments which the Board members will visit during the meeting.

(3) Open board discussions: Reports will be presented on all visited departments. The reports will consist of findings, recommended areas of further research, and suggested solutions. New trends and/or technologies will be discussed and goals established. The meeting is open to the public.

Luz D. Ortiz,
Army Federal Register Liaison Officer.

[FR Doc. 02-5250 Filed 3-5-02; 8:45 am]

BILLING CODE 3710-08-M